DEPARTMENT OF COMMERCE

International Trade Administration

[A-583-844]

Narrow Woven Ribbons With Woven Selvedge From Taiwan: Final Results of Antidumping Duty Administrative Review; 2022-2023

AGENCY: Enforcement and Compliance, International Trade Administration, Department of Commerce.

SUMMARY: The U.S. Department of Commerce (Commerce) finds that narrow woven ribbons with woven selvedge (ribbons) from Taiwan were sold in the United States at less than normal value during the period of review (POR) September 1, 2022, through August 31, 2023.

DATES: Applicable January 22, 2025.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On October 10, 2024, Commerce published in the Federal Register the preliminary results of the 2022-2023 administrative review ¹ of the antidumping duty order on ribbons from Taiwan.² We invited interested parties to comment on the Preliminary Results. No interested party submitted comments. Accordingly, the final results of review remain unchanged from the Preliminary Results. Because Commerce received no comments on the Preliminary Results, we have not modified our analysis, and no decision memoranda accompany this notice. We are, hereby, adopting the Preliminary Results as the final results of this review. Commerce conducted this review in accordance with section 751(a) of the Tariff Act of 1930, as Amended (the Act).

¹ See Narrow Woven Ribbons With Woven Selvedge from Taiwan: Preliminary Results and Rescission, in Part, of Antidumping Duty Administrative Review; 2022-2023, 89 FR 82207 (October 10, 2024) (Preliminary Results), and accompanying Preliminary Decision Memorandum (PDM).

² See Narrow Woven Ribbons With Woven Selvedge from Taiwan and the People's Republic of China: Antidumping Duty Orders, 75 FR 53632 (September 1, 2010); see also Narrow Woven Ribbons With Woven Selvedge from Taiwan and the People's Republic of China: Amended Antidumping Duty Orders, 75 FR 56982, 56985 (September 17, 2010) (collectively, Order).

Scope of the Order

The merchandise covered by this Order is narrow woven ribbons with woven selvedge from Taiwan. For a complete description of the scope of the Order, see the Preliminary Results.³

³ See Preliminary Results PDM at 3-5.

Use of Adverse Facts Available

This review covers the mandatory respondents Hao Shyang Ind. Co. Ltd. (Hao Shyang) and Lung Che Ribbons Enterprises Co., Ltd. (Lung Che). As discussed in the Preliminary Results, Commerce determined the weighted-average dumping margin for Hao Shyang and Lung Che on the basis of adverse facts available (AFA), pursuant to sections 776(a) and (b) of the Act. Accordingly, because no interested parties submitted comments on this determination in the Preliminary Results and there is no basis upon which to revise our findings pursuant to sections 776(a) and (b) of the Act, we continue to rely entirely on AFA for the mandatory respondents in these final results.

Final Results of Review

We determine the following estimated weighted-average dumping margins exist for the POR:

Exporter or producer | Weighted- average dumping margin (percent)
Hao Shyang Ind. Co. Ltd | 137.20
Lung Che Ribbons Enterprises Co. Ltd | 137.20

Disclosure

Normally, Commerce discloses to interested parties the calculations of the final results of an administrative review within five days of any public announcement or, if there is no public announcement, within five days of the date of publication of the notice of the final results in the Federal Register, in accordance with 19 CFR 351.224(b). However, because we made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries of subject merchandise in accordance with the final results of this review.

For companies subject to this review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date in the Federal Register of the final results of this administrative review, as provided by section 751(a)(2)(C) of the Act: (1) the cash deposit rate for Hao Shyang and Lung Che will be equal to the weighted- average dumping margin established in the final results of this administrative review; (2) for merchandise exported by a producer or exporter not covered in this review but covered in a prior segment of the proceeding, the cash deposit rate will continue to be the company-specific cash deposit rate published for the most recently completed segment of this proceeding in which the producer or exporter participated; (3) if the exporter is not a firm covered in this review, or a previous segment, but the producer is, the cash deposit rate will be the rate established in the completed segment for the most recent period for the producer of the merchandise; and (4) the cash deposit rate for all other producers or exporters will continue to be 4.37 percent ad valorem, the all-others rate established in the less-than-fair-value investigation.⁴ These deposit requirements, when imposed, shall remain in effect until further notice.

⁴ See Order.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.⁵

⁵ See 19 CFR 351.402(f)(3).

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protection order, is hereby requested. Failure to comply with the regulations and terms of an APO is a violation subject to sanction.

Notification to Interested Parties

We are issuing and publishing this notice in accordance with sections 751(a)(1) and 777(i)(1) of the Act, and 19 CFR 351.221(b)(5).

Dated: January 14, 2025.
Abdelali Elouaradia,
Deputy Assistant Secretary for Enforcement and Compliance.

[FR Doc. 2025-01496 Filed 1-21-25; 8:45 am]

BILLING CODE 3510-DS-P